DEPARTMENT OF THE INTERIOR

Fish and Wildlife Service

[FWS-R2-ES-2017-N243; FXES11130200000-178-FF02ENEH00]

Endangered and Threatened Species Permit Applications

AGENCY: Fish and Wildlife Service, Interior.

ACTION: Notice of receipt of applications; request for public comment.

SUMMARY: We, the U.S. Fish and Wildlife Service, invite the public to comment on the following applications to conduct certain activities with endangered or threatened species. The Endangered Species Act of 1973 (Act), as amended, prohibits activities with endangered and threatened species unless a Federal permit allows such activities. Both the Act and the National Environmental Policy Act require that we invite public comment before issuing these permits.

DATES: To ensure consideration, written comments must be received on or before May 10, 2017.

ADDRESSES: Susan Jacobsen, Chief, Division of Classification and Restoration, by U.S. mail at Division of Classification and Recovery, U.S. Fish and Wildlife Service, P.O. Box 1306, Albuquerque, NM 87103; or by telephone at 505-248-6641. Please refer to the respective permit number for each application when submitting comments.

FOR FURTHER INFORMATION CONTACT: Susan Jacobsen, Chief, Division of Classification and Restoration, by U.S. mail at P.O. Box 1306, Albuquerque, NM 87103; or by telephone at 505-248-6641.

SUPPLEMENTARY INFORMATION: The Act (16 U.S.C. 1531 et seq.) prohibits activities with endangered and threatened species unless a Federal permit allows such activities. Along with our implementing regulations in the Code of Federal Regulations (CFR) at 50 CFR part 17, the Act provides for permits, and requires that we invite public comment before issuing these permits.

A permit granted by us under section 10(a)(1)(A) of the Act authorizes applicants to conduct activities with U.S. endangered or threatened species for scientific purposes, enhancement of survival or propagation, or interstate commerce. Our regulations regarding implementing section 10(a)(1)(A) permits are found at 50 CFR 17.22 for endangered wildlife species, 50 CFR 17.32 for threatened wildlife species, 50 CFR 17.62 for endangered plant species, and 50 CFR 17.72 for threatened plant species.

Applications Available for Review and Comment

We invite local, State, Tribal, and Federal agencies, and the public to comment on the following applications. Please refer to the appropriate permit number (e.g., Permit No. TE-123456) when requesting application documents and when submitting comments.

Documents and other information the applicants have submitted with these applications are available for review, subject to Privacy Act (5 U.S.C. 552a) and Freedom of Information Act (5 U.S.C. 552) requirements.

Permit TE-099278

Applicant: Fred Phillips Consulting, Flagstaff, Arizona.

Applicant requests an amendment to an existing permit for research and recovery purposes to conduct presence/absence surveys for southwestern willow flycatcher (Empidonax traillii extimus) in California.

Permit TE-10107C

Applicant: Bandelier National Monument, Los Alamos, New Mexico.

Applicant requests a new permit for research and recovery purposes to conduct presence/absence surveys for southwestern willow flycatchers (Empidonax traillii extimus) and Jemez Mountains salamanders (Plethodon neomexicanus) in New Mexico.

Permit TE-10642C

Applicant: Jeffery Williams, Gilmer, Texas.

Applicant requests a new permit for research and recovery purposes to conduct presence/absence surveys and nest monitoring activities for red-cockaded woodpeckers (Picoides borealis) in Arkansas, Louisiana, and Texas.

Permit TE-37418B

Applicant: Brown and Gay Engineers, Inc., Frisco, Texas.

Applicant requests an amendment to an existing permit for research and recovery purposes to conduct presence/absence surveys for the following species in Oklahoma and Texas:

• Golden-cheeked warbler (Dendroica chrysoparia)

• Black-capped vireo (Vireo atricapilla)

• Red-cockaded woodpecker (Picoides borealis)

• American burying beetle (Nicrophorus americanus)

Permit TE-52420A

Applicant: Pima County, Tucson, Arizona.

Applicant requests an amendment to an existing permit for research and recovery purposes to conduct presence/absence surveys for the following species in Arizona:

• Lesser long-nosed bat (Leptonycteris curasoae yerbabuenae)

• Southwestern willow flycatcher (Empidonax traillii extimus)

• Gila chub (Gila intermedia)

• Gila topminnow (Poeciliopsis occidentalis)

Permit TE-85077A

Applicant: Zara Environmental LLC, Manchaca, Texas.

Applicant requests a new permit for research and recovery purposes to conduct presence/absence surveys, salvage, transportation, research, and captive husbandry for the following species in Arkansas, Louisiana, New Mexico, Oklahoma, and Texas:

• Coffin Cave mold beetle (Batrisodes texanus)

• Helotes mold beetle (Batrisodes venyivi)

• Robber Baron Cave meshweaver (Cicurina baronia)

• Madla's Cave meshweaver (Cicurina madla)

• Bracken Bat Cave meshweaver (Cicurina venii)

• Government Canyon Bat Cave meshweaver (Cicurina vespera)

• Tooth Cave spider (Neoleptoneta myopica)

• Ground beetle (Rhadine exilis)

• Ground beetle (Rhadine infernalis)

• Tooth Cave ground beetle (Rhadine persephone)

• Tooth Cave pseudoscorpion (Tartarocreagris texana)

• Kretschmarr Cave mold beetle (Texamaurops reddelli)

• Cokendolpher Cave harvestman (Texella cokendolpheri)

• Bee Creek Cave harvestman (Texella reddelli)

• Bone Cave harvestman (Texella reyesi)

• Diminutive amphipod (Gammarus hyalleloides)

• Phantom tryonia (Tryonia cheatumi)

• Phantom springsnail (Pyrgulopsis texana)

• Golden-cheeked warbler (Setophaga chrysoparia)

• Black-capped vireo (Vireo atricapilla)

• Comanche Springs pupfish (Cyprinodon elegans)

• Fountain darter (Etheostoma fonticula)

• San Marcos gambusia (Gambusia georgei)

• Pecos gambusia (Gambusia nobilis)

• Mexican blindcat (Prietella phreatophila)

• Oachita Rock Pocketbook (Arkansia wheeleri)

• Pink mucket (Lampsilis abrupta)

• Scaleshell (Leptodea leptodori)

• Rabbitsfoot (Quadrula cylindrica cylindrica)

• Winged mapleleaf (Quadrula fragosa)

• Tobusch fishhook cactus (Sclerocactus brevihamatus ssp. tobuschii)

• Navasota ladies'-tresses (Spiranthes parksii)

• Texas snowbells (Styrax texanus)

• Texas wild-rice (Zizania texana)

Permit TE-11267C

Applicant: Marissa Ann Buschow, Avondale, Arizona.

Applicant requests a new permit for research and recovery purposes to conduct activities for southwestern willow flycatchers (Empidonax traillii extimus) in Arizona, California, Nevada, New Mexico, and Texas.

Permit TE-65178A

Applicant: Jennifer L. Reidy, Liberty, Missouri.

Applicant requests an amendment to an existing permit for research and recovery purposes to conduct tracking and radio-tagging of golden-cheeked warblers (Dendroica chrysoparia) in Texas.

Permit TE-828963

Applicant: Connors State College, Muskogee, Oklahoma.

Applicant requests an amendment to an existing permit for research and recovery purposes to conduct presence/absence surveys for American burying beetles (Nicrophorus americanus) in Oklahoma.

Permit TE-88214B

Applicant: John N. Macey, Temple, Texas.

Applicant requests an amendment to an existing permit for research and recovery purposes to conduct nest monitoring of black-capped vireos (Vireo atricapilla) in Texas.

Permit TE-12438C

Applicant: University of Texas, Austin, Texas.

Applicant requests a new permit for research and recovery purposes to conduct presence/absence surveys and captive care of Mexican blindcats (Prietella phreatophila) in Texas.

Permit TE-12441C

Applicant: Jimmy Joe Lovett, Stillwater, Oklahoma.

Applicant requests a new permit for research and recovery purposes to conduct presence/absence surveys for gray bats (Myotis grisescens) in Oklahoma.

Permit TE-168189

Applicant: Michael Clay Green, San Marcos, Texas.

Applicant requests a renewal to an expired permit for research and recovery purposes to conduct presence/absence surveys for golden-cheeked warblers (Dendroica chrysoparia) in Texas.

Permit TE-103076

Applicant: Transcon Environmental, Inc., Mesa, Arizona.

Applicant requests an amendment to an existing permit for research and recovery purposes to conduct presence/absence surveys for California tiger salamanders (Ambystoma californiense) in California.

Permit TE-92222A

Applicant: Elena C. Pinto-Torres, Austin, Texas.

Applicant requests an amendment to an existing permit for research and recovery purposes to conduct presence/absence surveys for northern aplomado falcons (Falco femoralis septentrionalis) in Texas.

Permit TE-17037C

Applicant: International Boundary and Water Commission, El Paso, Texas.

Applicant requests a new permit for research and recovery purposes to conduct presence/absence surveys for southwestern willow flycatchers (Empidonax traillii extimus) in New Mexico and Texas.

Permit TE-17880C

Applicant: Timothy Brent Garrett, College Station, Texas.

Applicant requests a new permit for research and recovery purposes to conduct presence/absence surveys for Houston toads (Bufo houstonensis) in Texas.

Permit TE-023643

Applicant: U.S. Army, III Corps and Fort Hood, Fort Hood, Texas.

Applicant requests an amendment to an existing permit for research and recovery purposes to conduct tracking and radio-tagging of golden-cheeked warblers (Dendroica chrysoparia) in Texas.

Permit TE-44542B

Applicant: Olsson Associates, Oklahoma City, Oklahoma.

Applicant requests an amendment to an existing permit for research and recovery purposes to conduct surveys for the following species within Illinois, Iowa, Kansas, Missouri, Nebraska, Oklahoma, and Texas:

• Gray bat (Myotis grisescens)

• Indiana bat (Myotis sodalis)

• Ozark big-eared bat (Corynorhinus (=plecotus) townsendii ingens)

Permit TE-081884

Applicant: Andrew G. Gluesenkamp, San Antonio, Texas.

Applicant requests a renewal and amendment to an existing permit for research and recovery purposes to conduct presence/absence surveys, collection, research, and captive husbandry for the following species in Texas:

• Austin blind salamander (Eurycea waterlooensis)

• Barton Springs salamander (Eurycea sosorum)

• Comal Springs dryopid beetle (Stygoparnus comalensis)

• Comal Springs riffle beetle (Heterelmis comalensis)

• Mexican blindcat (Prietella phreatophila)

• Reticulated flatwoods salamander (Ambystoma bishop)

• Texas blind salamander (Typhlomolge rathbuni)

Permit TE-17907C

Applicant: Landhawk Consulting LLC, Pharr, Texas.

Applicant requests a new permit for research and recovery purposes to conduct presence/absence surveys for the following species in Texas:

• Black-capped vireo (Vireo atricapilla)

• Northern aplomado falcon (Falco femoralis septentrionalis)

• Interior least tern (Sterna antillarum)

• Red-cockaded woodpecker (Picoides borealis)

• Houston toad (Bufo houstonensis)

Permit TE-35163A

Applicant: Joseph A. Grzybowski, Norman, Oklahoma.

Applicant requests an amendment to an existing permit for research and recovery purposes to conduct presence/absence surveys, mist-net, band, collect blood, and attach radio-transmitters to black-capped vireos (Vireo atricapilla) in Oklahoma.

Permit TE-17466C

Applicant: David L. Dickson, Dallas, Texas.

Applicant requests a new permit for research and recovery purposes to conduct presence/absence surveys for American burying beetles (Nicrophorus americanus) in Oklahoma and Texas.

Permit TE-17021C

Applicant: April Michelle Beard, Abilene, Texas.

Applicant requests a new permit for research and recovery purposes to conduct presence/absence surveys for black-capped vireos (Vireo atricapilla) in Texas.

Permit TE-17040C

Applicant: Paul B. Samollow, College Station, Texas.

Applicant requests a new permit for research and recovery purposes to conduct presence/absence surveys and collect fin clips from Leon Springs pupfish (Cyprinodon bovinus) in Texas.

Permit TE-206016

Applicant: Andrew R. Middick, Edmond, Oklahoma.

Applicant requests an amendment and renewal to an existing permit for research and recovery purposes to conduct presence/absence surveys for American burying beetles (Nicrophorus americanus) in Arkansas, Kansas, Oklahoma, and Texas.

Permit TE-799103

Applicant: Hicks & Company, Austin, Texas.

Applicant requests an amendment to an existing permit for research and recovery purposes to conduct presence/absence surveys for southwestern willow flycatchers (Empidonax traillii extimus) in Arizona, New Mexico, and Texas.

Permit TE-19907C

Applicant: Amanda Lillie Miller, Lascassas, Tennessee.

Applicant requests a new permit for research and recovery purposes to conduct presence/absence surveys, salvage, transportation, and research on the following species in Texas:

• Helotes mold beetle (Batrisodes venyivi)

• Robber Baron Cave meshweaver (Cicurina baronia)

• Madla's Cave meshweaver (Cicurina madla)

• Bracken Bat Cave meshweaver (Cicurina venii)

• Government Canyon Bat Cave meshweaver (Cicurina vespera)

• Government Canyon Bat Cave spider (Neoleptoneta microps)

• Ground beetle (Rhadine exilis)

• Ground beetle (Rhadine infernalis)

• Cokendolpher Cave harvestman (Texella cokendolpheri)

Permit TE-20270C

Applicant: National Park Service—Sonoran Desert Network, Tucson, Arizona.

Applicant requests a new permit for research and recovery purposes to conduct captive care and reintroduction activities for Gila topminnow (Poeciliopsis occidentalis) in Arizona.

Permit TE-88519A

Applicant: Forest Service—Southwestern Regional Office, Albuquerque, New Mexico.

Applicant requests an amendment and renewal to an existing permit for research and recovery purposes to conduct presence/absence surveys for New Mexico meadow jumping mice (Zapus hudsonius luteus) in Arizona and New Mexico.

Permit TE-21339C

Applicant: Erik M. Andersen, Tucson, Arizona.

Applicant requests a new permit for research and recovery purposes to conduct presence/absence surveys for southwestern willow flycatchers (Empidonax traillii extimus) in Arizona and New Mexico.

Permit TE-800611

Applicant: SWCA, Incorporated, Austin, Texas.

Applicant requests an amendment to an existing permit for research and recovery purposes to conduct presence/absence surveys for the American burying beetle (Nicrophorus americanus) in, Arkansas, Kansas, Massachusetts Michigan, Missouri, Nebraska, Ohio, Oklahoma, Rhode Island, South Dakota, and Texas; and to conduct presence/absence surveys for the following species in Arizona and New Mexico:

• Rio Grande silvery minnow (Hybognathus amarus)

• Loach minnow (Tiaroga cobitis)

• Spikedace (Meda fulgida)

Permit TE-80964B

Applicant: Jean Marie L. Rieck, Flagstaff, Arizona.

Applicant requests an amendment to an existing permit for research and recovery purposes to conduct presence/absence surveys for southwestern willow flycatcher (Empidonax traillii extimus) in Arizona, Colorado, Nevada, New Mexico, and Utah.

National Environmental Policy Act (NEPA)

In compliance with NEPA (42 U.S.C. 4321 et seq.), we have made an initial determination that the proposed activities in these permits are categorically excluded from the requirement to prepare an environmental assessment or environmental impact statement as provided by Department of the Interior implementing regulations in the Code of Federal Regulations, title 43, part 46 (43 CFR 46.205, 46.210, and 46.215).

Comments Publically Available

All comments and materials we receive in response to this request will be available for public inspection, by appointment, during normal business hours at the address listed in the ADDRESSES section.

Before including your address, phone number, email address, or other personal identifying information in your comment, you should be aware that your entire comment—including your personal identifying information—may be made publicly available at any time. While you can ask us in your comment to withhold your personal identifying information from public review, we cannot guarantee that we will be able to do so.

Authority

We provide this notice under the Act, section 10 (16 U.S.C. 1531 et seq.).

Dated: March 2, 2017.
Joy E. Nicholopoulos,
Acting Regional Director, Southwest Region, U.S. Fish and Wildlife Service.

[FR Doc. 2017-07073 Filed 4-7-17; 8:45 am]

BILLING CODE 4333-15-P